DEPARTMENT OF THE INTERIOR

Bureau of Land Management

[ID-080-1030-PH]

Notice of Public Meeting, Upper Columbia-Salmon Clearwater Resource Advisory Council Meeting; Idaho

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Upper Columbia-Salmon Clearwater (UCSC) District Resource Advisory Council (RAC) will meet as indicated below.

DATES: March 4 and 5, 2004. The meeting will begin at 8 a.m. each day and end at approximately 3 p.m. on March 5th. The public comment period will be from 8 a.m. to 9 a.m. on March 5, 2004. The meeting will be held at the Grant Creek Inn, 5280 Grant Creek Road, Missoula, Montana, because Missoula is centrally located for Council members traveling from the northern and south-central parts of Idaho.

FOR FURTHER INFORMATION CONTACT: Stephanie Snook, RAC Coordinator, BLM UCSC District, 1808 N. Third Street, Coeur d'Alene, Idaho 83814 or telephone (208) 769-5004.

SUPPLEMENTARY INFORMATION: The 15-member Council advises the Secretary of the Interior, through the Bureau of Land Management, on a variety of planning and management issues associated with public land management in Idaho. The agenda items for the March 4 and 5, 2004 meeting include:

• New RAC member orientation

• Rangeland Ecology training

• Development of an Annual Work Plan

• Subgroup reports and follow-up on Off-Highway-Vehicles, the Wild Horse Program, and other natural resource issues.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided above.

Dated: January 30, 2004.
Lewis M. Brown,
District Manager.

[FR Doc. 04-2393 Filed 2-3-04; 8:45 am]

BILLING CODE 4310-GG-P